DEPARTMENT OF COMMERCE

National Oceanic and Atmospheric Administration

50 CFR Part 622

[Docket No. 930792-3265]

RIN 0648-XA431

Fisheries of the Caribbean, Gulf of Mexico, and South Atlantic; Shrimp Fishery Off the Southern Atlantic States; Reopening of Commercial Penaeid Shrimp Trawling Off South Carolina

AGENCY: National Marine Fisheries Service (NMFS), National Oceanic and Atmospheric Administration (NOAA), Commerce.

ACTION: Temporary rule; reopening.

SUMMARY: NMFS reopens commercial penaeid shrimp trawling, i.e., for brown, pink, and white shrimp, in the exclusive economic zone (EEZ) off South Carolina in the South Atlantic. NMFS previously closed commercial penaeid shrimp trawling in the EEZ off South Carolina on March 22, 2011. The reopening is intended to maximize harvest benefits while protecting the penaeid shrimp resource.

DATES: The reopening is effective 12:01 a.m., local time, June 7, 2011, until the effective date of a notification of a closure which will be published in the Federal Register.

FOR FURTHER INFORMATION CONTACT: Dr. Steve Branstetter, 727-824-5305; e-mail: Steve.Branstetter@noaa.gov.

SUPPLEMENTARY INFORMATION: Penaeid shrimp in the South Atlantic are managed under the Fishery Management Plan for the Shrimp Fishery of the South Atlantic Region (FMP). The FMP was prepared by the South Atlantic Fishery Management Council (Council) and is implemented under the authority of the Magnuson-Stevens Fishery Conservation and Management Act (Magnuson-Stevens Act) by regulations at 50 CFR part 622.

Under 50 CFR 622.35(d)(1), NMFS may close the EEZ adjacent to South Atlantic states that have closed their waters to the harvest of brown, pink, and white shrimp to protect the white shrimp spawning stock that has been severely depleted by cold weather. Consistent with those procedures and criteria, after determining that unusually cold temperatures resulted in at least an 80-percent reduction of the white shrimp populations in its state waters, the state of South Carolina closed its waters on January 10, 2011, to the harvest of brown, pink, and white shrimp. South Carolina subsequently requested that the Council and NMFS implement a concurrent closure of the EEZ off South Carolina.

The Council approved South Carolina's request and requested that NMFS concurrently close the EEZ off South Carolina to the harvest of brown, pink, and white shrimp. NMFS determined that the recommended closure conformed with the procedures and criteria specified in the FMP and the Magnuson-Stevens Act, and, therefore, implemented the closure effective as of March 22, 2011 (76 FR 16698, March 25, 2011).

During the closure, as specified in 50 CFR 622.35(d)(2), no person could: (1) Trawl for brown, pink, or white shrimp in the EEZ off South Carolina; (2) possess on board a fishing vessel brown, pink, or white shrimp in or from the EEZ off South Carolina unless the vessel is in transit through the area and all nets with a mesh size of less than 4 inches (10.2 cm) are stowed below deck; or (3) for a vessel trawling within 25 nautical miles of the baseline from which the territorial sea is measured, use or have on board a trawl net with a mesh size less than 4 inches (10.2 cm), as measured between the centers of opposite knots when pulled taut.

The FMP and implementing regulations at 50 CFR 622.35(d) state that: (1) The closure will be effective until the state's requested ending date of the closure in the respective state's waters, but may be ended earlier based on the state's request; and (2) if the state closure is ended earlier, NMFS will terminate the closure of the EEZ by filing a notification to that effect with the Office of the Federal Register. Based on biological sampling and the initial request from the state of South Carolina, the reopening of the EEZ waters off South Carolina would occur no later than June 7, 2011. Therefore, NMFS publishes this notification to reopen the EEZ off South Carolina to the harvest of brown, pink, and white shrimp effective 12:01 a.m., local time, June 7, 2011.

Classification

This action responds to the best available information recently obtained from the fishery. The Assistant Administrator for Fisheries, NOAA, (AA), finds good cause to waive the requirement to provide prior notice and opportunity for public comment pursuant to the authority set forth at 5 U.S.C. 553(b)(B). Allowing prior notice and opportunity for public comment on the reopening is unnecessary because the rule establishing the reopening procedures has already been subject to notice and comment, and all that remains is to notify the public of the reopening date. Additionally, allowing for prior notice and opportunity for public comment for this reopening is contrary to the public interest because it requires time, thus delaying the removal of a restriction and thereby reducing socioeconomic benefits to the commercial sector. Also, the FMP procedures and implementing regulations require the commercial penaeid shrimp trawling component to reopen on June 7, 2011.

For the aforementioned reasons, the AA also finds good cause to waive the 30-day delay in effectiveness of this action under 5 U.S.C. 553(d)(3).

This action is authorized by 50 CFR 622.35(d) and is exempt from review under Executive Order 12866.

Authority: 16 U.S.C. 1801 et seq.

Dated: May 19, 2011.
James P. Burgess,
Acting Director, Office of Sustainable Fisheries, National Marine Fisheries Service.

[FR Doc. 2011-12750 Filed 5-23-11; 8:45 am]

BILLING CODE 3510-22-P